NUCLEAR REGULATORY COMMISSION

[NRC-2009-0176]

Draft Regulatory Guide: Issuance, Availability

AGENCY: Nuclear Regulatory Commission.

ACTION: Notice of Issuance and Availability of Draft Regulatory Guide, DG-1214.

FOR FURTHER INFORMATION CONTACT: Dan Frumkin, U.S. Nuclear Regulatory Commission, Washington, DC 20555-0001, telephone (301) 415-2280, e-mail Dan.Frumkin@nrc.gov, or, R. A. Jervey, U.S. Nuclear Regulatory Commission, Washington, DC 20555-0001, telephone: (301) 251-7407, e-mail to raj@nrc.gov.

SUPPLEMENTARY INFORMATION:

I. Introduction

The U.S. Nuclear Regulatory Commission (NRC) is issuing for public comment a draft guide in the agency's “Regulatory Guide” series. This series was developed to describe and make available to the public such information as methods that are acceptable to the NRC staff for implementing specific parts of the NRC's regulations, techniques that the staff uses in evaluating specific problems or postulated accidents, and data that the staff needs in its review of applications for permits and licenses.

The draft regulatory guide (DG), titled, “Fire Protection for Nuclear Power Plants,” is temporarily identified by its task number, DG-1214, which should be mentioned in all related correspondence. DG-1214 is proposed Revision 2 of Regulatory Guide 1.189.

The primary objectives of fire protection programs (FPPs) at U.S. nuclear plants are to minimize both the probability of occurrence and the consequences of fire. To meet these objectives, the FPPs for operating nuclear power plants are designed to provide reasonable assurance, through defense in depth, that a fire will not prevent the necessary safe-shutdown functions from being performed and that radioactive releases to the environment in the event of a fire will be minimized.

The regulatory framework that the NRC has established for nuclear plant FPPs consists of a number of regulations and supporting guidelines, including, but not limited to, Title 10 of the Code of Federal Regulations, Part 50, “Domestic Licensing of Production and Utilization Facilities,” (10 CFR Part 50), Appendix A, “General Design Criteria for Nuclear Power Plants,” General Design Criterion (GDC) 3, “Fire Protection;” 10 CFR 50.48, “Fire Protection;” Appendix R, “Fire Protection Program for Nuclear Power Facilities Operating Prior to January 1, 1979,” to 10 CFR Part 50; regulatory guides; generic communications (e.g., generic letters [GLs], regulatory issue summaries [RISs], bulletins, and information notices [INs]); NUREG-series reports, including NUREG-0800, “Standard Review Plan [SRP] for the Review of Safety Analysis Reports for Nuclear Power Plants;” and industry standards. Since not all of the fire protection regulations promulgated by the NRC apply to all plants, this guide does not categorize them as regulations. Licensees should refer to their plant-specific licensing bases to determine the applicability of a specific regulation to a specific plant.

The NRC staff developed this guide to provide a comprehensive fire protection guidance document and to identify the scope and depth of fire protection that the staff would consider acceptable for nuclear power plants. The original issue of this guide addressed only plants operating as of January 1, 2001. Revision 1 of the document added guidance for new reactor designs and incorporated the guidance previously included in Branch Technical Position (BTP) SPLB 9.5-1, “Guidelines for Fire Protection for Nuclear Power Plants (formerly BTP CMEB 9.5-1).” DG-1214 incorporates guidance related to analysis of safe-shutdown capabilities as found in regulatory position 5.3.

II. Further Information

The NRC staff is soliciting comments on DG-1214. Comments may be accompanied by relevant information or supporting data and should mention DG-1214 in the subject line. Comments submitted in writing or in electronic form will be made available to the public in their entirety through the NRC's Agencywide Documents Access and Management System (ADAMS).

Personal information will not be removed from your comments. You may submit comments by any of the following methods:

1. Mail comments to: Rulemaking, Directives, and Editing Branch, Office of Administration, U.S. Nuclear Regulatory Commission, Washington, DC 20555-0001.

2. E-mail comments to: nrcrep.resource@nrc.gov.

Requests for technical information about DG-1214 may be directed to the NRC contact, Dan Frumkin at (301) 415-2280 or e-mail to Dan.Frumkin@nrc.gov.

Comments would be most helpful if received by May 29, 2009. Comments received after that date will be considered if it is practical to do so, but the NRC is able to ensure consideration only for comments received on or before this date. Although a time limit is given, comments and suggestions in connection with items for inclusion in guides currently being developed or improvements in all published guides are encouraged at any time.

Electronic copies of DG-1214 are available through the NRC's public Web site under Draft Regulatory Guides in the “Regulatory Guides” collection of the NRC's Electronic Reading Room at http://www.nrc.gov/reading-rm/doc-collections/. Electronic copies are also available in ADAMS (http://www.nrc.gov/reading-rm/adams.html), under Accession No. ML090070453.

In addition, regulatory guides are available for inspection at the NRC's Public Document Room (PDR), which is located at 11555 Rockville Pike, Rockville, Maryland. The PDR's mailing address is USNRC PDR, Washington, DC 20555-0001. The PDR can also be reached by telephone at (301) 415-4737 or (800) 397-4205, by fax at (301) 415-3548, and by e-mail to pdr.resource@nrc.gov.

Regulatory guides are not copyrighted, and Commission approval is not required to reproduce them.

Dated at Rockville, Maryland, this 7th day of April 2009.
For the Nuclear Regulatory Commission.
Andrea D. Valentin,
Chief, Regulatory Guide Development Branch, Division of Engineering, Office of Nuclear Regulatory Research.

[FR Doc. E9-9099 Filed 4-20-09; 8:45 am]

BILLING CODE 7590-01-P